NUCLEAR REGULATORY COMMISSION

[NRC-2017-0122]

Information Collection: Notices, Instructions and Reports to Workers: Inspection and Investigations

AGENCY: Nuclear Regulatory Commission.

ACTION: Notice of submission to the Office of Management and Budget; request for comment.

SUMMARY: The U.S. Nuclear Regulatory Commission (NRC) invites public comment on the renewal of Office of Management and Budget (OMB) approval for an existing collection of information. The information collection is entitled, “Notices, Instructions and Reports to Workers: Inspection and Investigations.”

DATES: Submit comments by November 6, 2017.

ADDRESSES: Submit comments directly to the OMB reviewer at: Aaron Szabo, Desk Officer, Office of Information and Regulatory Affairs 3150-0044, NEOB-10202, Office of Management and Budget, Washington, DC 20503; telephone: 202-395-3621, email: oira_submission@omb.eop.gov.

FOR FURTHER INFORMATION CONTACT: David Cullison, NRC Clearance Officer, U.S. Nuclear Regulatory Commission, Washington DC 20555-0001; telephone: 301-415-2084; email: INFOCOLLECTS.resource@nrc.gov.

SUPPLEMENTARY INFORMATION:

I. Obtaining Information and Submitting Comments

A. Obtaining Information

Please refer to Docket ID NRC-2017-0122 when contacting the NRC about the availability of information for this action. You may obtain publicly-available information related to this action by any of the following methods:

• Federal Rulemaking Web site: Go to http://www.regulations.gov and search for Docket ID NRC-2017-0122.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The supporting statement is available in ADAMS under Accession No. ML17194A752.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.resource@nrc.gov.

B. Submitting Comments

The NRC cautions you not to include identifying or contact information in comment submissions that you do not want to be publicly disclosed in your comment submission. All comment submissions are posted at http://www.regulations.gov and entered into ADAMS. Comment submissions are not routinely edited to remove identifying or contact information.

If you are requesting or aggregating comments from other persons for submission to the OMB, then you should inform those persons not to include identifying or contact information that they do not want to be publicly disclosed in their comment submission. Your request should state that the NRC does not routinely edit comment submissions to remove such information before making the comment submissions available to the public or entering the comment submissions into ADAMS.

II. Background

Under the provisions of the Paperwork Reduction Act of 1995 (44 U.S.C. Chapter 35), the NRC recently submitted a request for renewal of an existing collection of information to OMB for review entitled, “Notices, Instructions and Reports to Workers: Inspection and Investigations.” The NRC hereby informs potential respondents that an agency may not conduct or sponsor, and that a person is not required to respond to, a collection of information unless it displays a currently valid OMB control number.

The NRC published a Federal Register notice with a 60-day comment period on this information collection on June 21, 2017 (82 FR 28360).

1. The title of the information collection: 10 CFR part 19, “Notices, Instructions and Reports to Workers: Inspection and Investigations.”

2. OMB approval number: 3150-0044.

3. Type of submission: Extension.

4. The form number if applicable: N/A.

5. How often the collection is required or requested: As necessary in order that adequate and timely reports of radiation exposure be made to individuals involved in applicable NRC-licensed activities.

6. Who will be required or asked to respond: Licensees authorized to receive, possess, use, or transfer material licensed by the NRC.

7. The estimated number of annual responses: 20,300.

8. The estimated number of annual respondents: 1,401,163.

9. An estimate of the total number of hours needed annually to comply with the information collection requirement or request: 320,969.

10. Abstract: Part 19 of title 10 of the Code of Federal Regulations (10 CFR), establishes requirements for notices, instructions, and reports by licensees and regulated entities to individuals participating in NRC-licensed and regulated activities and options available to these individuals in connection with Commission inspections of licensees and regulated entities, and to ascertain compliance with the provisions of the Atomic Energy Act of 1954, as amended, titles II and IV of the Energy Reorganization Act of 1974, and regulations, orders, and licenses thereunder. The regulations in this part also establish the rights and responsibilities of the Commission and individuals during interviews compelled by subpoena as part of agency's inspections or investigations under Section 161c of the Atomic Energy Act of 1954, as amended, on any matter within the Commission's jurisdiction.

Dated at Rockville, Maryland, this 28th day of September , 2017.
For the Nuclear Regulatory Commission.
David Cullison,
NRC Clearance Officer, Office of the Chief Information Officer.

[FR Doc. 2017-21418 Filed 10-4-17; 8:45 am]

BILLING CODE 7590-01-P